DEPARTMENT OF HEALTH AND HUMAN SERVICES

Centers for Disease Control and Prevention

[60Day-05-05CI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Oral Health Management Information System—New —Division of Oral Health (DOH), National Center for Chronic Disease Prevention and Health Promotion (NCCDPHP) Centers for Disease Control and Prevention (CDC).

Background and Brief Description: The CDC seeks to improve the oral health of the nation by targeting efforts to improve the infrastructure of state and territorial oral health departments, strengthen and enhance program capacity related to monitoring the population's oral health status and behaviors, develop effective programs to improve the oral health of children and adults, evaluate program accomplishments, and inform key stakeholders, including policy makers, of program results. Through a cooperative agreement program (Program Announcement 03022), CDC provides approximately $3 million per year over 5 years to 12 states and one territory to strengthen the states' core oral health infrastructure and capacity and reduce health disparities among high-risk groups. The CDC is authorized to do this under sections 301 and 317(k) of the Public Health Service Act (42 U.S.C. 241 and 247b(k)).

Information systems provide a central repository of information, such as the plans of the state or territorial oral health programs (their goals, objectives, performance milestones and indicators), as well as state and territorial oral health performance activities including programmatic and financial information. A management information system (MIS) will allow a CDC project officer to enter information related to technical assistance, consultative plans, communication and site visits. For state and territorial oral health programs, a MIS will provide a central location that will allow for the more efficient collection of information needed to meet reporting requirements. The system will allow state and territorial oral health programs immediate access to information and better equip them to respond to inquiries in a timely fashion and to make programmatic decisions in a more efficient, informed manner.

A MIS will support CDC's broader mission of reducing oral health disparities by enabling CDC staff to more effectively identify the strengths and weaknesses of individual state and territorial oral health programs; to identify national progress toward reaching the goals of Healthy People 2010; and to disseminate information related to successful public health interventions implemented by state and territorial programs to prevent and control the burden of oral diseases. The CDC anticipates that the state burden of providing hard-copy reports will be reduced with the introduction of the Web-based progress reporting system. It is assumed that states will experience a learning curve in using this application that burden will be reduced once they have familiarized themselves with it. There is no cost to respondents other than their time.

Estimate of Annualized Burden Hours:

Type of respondent | Number of respondents | Number of responses per respondent | Average burden per response (in hours) | Total burden (in hours)
State Program Staff | 13 | 2 | 9 | 234

Dated: May 31, 2005.
Betsey Dunaway,
Acting Reports Clearance Officer, Centers for Disease Control and Prevention.

[FR Doc. 05-11368 Filed 6-7-05; 8:45 am]

BILLING CODE 4163-18-P